DEPARTMENT OF TRANSPORTATION

Federal Aviation Administration

14 CFR Part 39

[Docket No. 98-NM-56-AD; Amendment 39-11725; AD 2000-10-01]

RIN 2120-AA64

Airworthiness Directives; Airbus Model A300 B2, A300-B2K, A300 B4-2C, A300 B4-100, and A300 B4-200 Series Airplanes

AGENCY: Federal Aviation Administration, DOT.

ACTION: Final rule.

SUMMARY: This amendment supersedes an existing airworthiness directive (AD), applicable to all Airbus Model A300 B2, A300 B2K, A300 B2-200, A300 B4, A300 B4-100, and A300 B4-200 series airplanes, that currently requires certain structural inspections and modifications. This amendment requires that those inspections be accomplished on additional airplanes. This action also requires new repetitive inspections for airplanes in certain configurations at revised thresholds and intervals. This amendment is prompted by issuance of mandatory continuing airworthiness information by a foreign civil airworthiness authority. The actions specified by this AD are intended to detect and correct corrosion and cracking of the wings and fuselage, which could result in reduced structural integrity of the airplane.

DATES: Effective June 28, 2000.

The incorporation by reference of certain publications listed in the regulations is approved by the Director of the Federal Register as of June 28, 2000.

The incorporation by reference of certain other publications, as listed in the regulations, was approved previously by the Director of the Federal Register as of April 13, 1992 (57 FR 8257, March 3, 1992), and as of May 29, 1996 (61 FR 18661, April 29, 1996).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 96-08-08, amendment 39-9574 (61 FR 18661, April 29, 1996), which is applicable to all Airbus Model A300 B2, A300 B2K, A300 B2-200, A300 B4, A300 B4-100, and A300 B4-200 series airplanes, was published in the Federal Register on December 21, 1999 (64 FR 71333). The action proposed to continue to require certain structural inspections and modifications. The action proposed to require that those inspections be accomplished on additional airplanes. The action also proposed to require new repetitive inspections for airplanes in certain configurations at revised thresholds and intervals.

Comments Received

Interested persons have been afforded an opportunity to participate in the making of this amendment. Due consideration has been given to the comments received.

Additional Affected Airbus Models

One commenter suggests that the applicability of the proposed AD be revised to include Airbus Model A300C4-200 and A300F4-200 series airplanes. The FAA does not concur that the applicability should be revised to include these airplane models, since they are not type certificated in the U.S. No change is made to the final rule.

Reference to French Airworthiness Directive

One commenter suggests that the proposed AD be revised to include a reference to a related French airworthiness directive. The commenter states that the proposed AD correctly refers to French airworthiness directive 90-222-116(B)R4, which references service bulletins for certain inspections also addressed in this proposed AD, but does not mention 93-154-149(B), which references service bulletins for the modifications addressed by this AD.

The FAA acknowledges that the modifications required by existing FAA AD 96-08-08 were also addressed in related French airworthiness directive 93-154-149(B), dated September 15, 1993. The FAA has no objection to including this reference in this final rule, which continues to require those modifications, and has revised the AD accordingly. However, although the FAA generally references the latest pertinent airworthiness directive issued by another airworthiness authority as an informational NOTE in the AD, this information is not intended to be an exhaustive list of all related mandatory continuing airworthiness information, and should not be considered as such.

Changes Made to Proposed AD

To improve the readability of the AD, the FAA has added certain headings to the text of the AD.

Conclusion

After careful review of the available data, including the comments noted above, the FAA has determined that air safety and the public interest require the adoption of the rule with the changes previously described. The FAA has determined that these changes will neither increase the economic burden on any operator nor increase the scope of the AD.

Cost Impact

There are approximately 13 airplanes of U.S. registry that will be affected by this AD.

The actions that are currently required by AD 96-08-08, and retained in this AD, take approximately 2 work hours per airplane to accomplish, at an average labor rate of $60 per work hour. Based on these figures, the cost impact of the previously required actions on U.S. operators is estimated to be $120 per airplane, per inspection cycle.

The new inspection that is required by this new AD will take approximately 3 work hours per airplane to accomplish, at an average labor rate of $60 per work hour. Based on these figures, the cost impact of the new requirements of this AD on U.S. operators is estimated to be $180 per airplane, per inspection cycle.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9574 (61 FR 18661, April 29, 1996), and by adding a new airworthiness directive (AD), amendment 39-11725, to read as follows:

2000-10-01 Airbus Industrie: Amendment 39-11725. Docket 98-NM-56-AD. Supersedes AD 96-08-08, Amendment 39-9574.

Applicability: All Model A300 B2, A300 B2K, A300 B2-200, A300 B4-2C, A300 B4-100, and A300 B4-200 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (h) of this AD. The request should include an assessment of the effect of the modification, alteration, or repair on the unsafe condition addressed by this AD; and, if the unsafe condition has not been eliminated, the request should include specific proposed actions to address it.

Compliance: Required as indicated, unless accomplished previously.

To detect and correct corrosion and cracking of the wings and fuselage, which could result in reduced structural integrity of the airplane, accomplish the following:

Restatement of Certain Requirements of AD 92-02-09

Inspections and Modifications

(a) Accomplish the inspections and modifications contained in the Airbus service bulletins listed below prior to or at the thresholds identified in each of those service bulletins, or within 1,000 landings or 12 months after April 13, 1992 (the effective date of AD 92-02-09, amendment 39-8145), whichever occurs later, except as provided in paragraph (d) of this AD for the service bulletin identified in paragraph (a)(8) of this AD. Required inspections shall be repeated thereafter at intervals not to exceed those specified in the corresponding service bulletin for the inspection. After April 13, 1992, the actions shall only be accomplished in accordance with the latest revision of the service bulletins specified.

(1) Airbus Service Bulletin A300-53-103, Revision 4, dated June 30, 1983; or Revision 5, dated February 23, 1994;

(2) Airbus Service Bulletin A300-53-126, Revision 7, dated November 11, 1990; or Revision 8, dated September 18, 1991;

(3) Airbus Service Bulletin A300-53-146, Revision 7, dated April 26, 1991;

Note 2: Airbus Service Bulletin A300-53-146 provides for a compliance threshold of within 5 years after the date of issuance of French airworthiness directive 90-222-116(B), issued on December 12, 1990, the accomplishment of which is required by AD 85-07-09, amendment 39-5033.

(4) For Configuration 1 airplanes identified in Airbus Service Bulletin A300-53-0162, Revision 6, dated March 20, 1996: Airbus Service Bulletin A300-53-162, Revision 4, dated November 12, 1990; Revision 5, dated March 17, 1994; or Revision 6, dated March 20, 1996. After the effective date of this new AD, only Revision 6 of the service bulletin shall be used;

(5) Airbus Service Bulletin A300-53-196, Revision 1, dated November 12, 1990; as amended by Service Bulletin Change Notice 1.A., dated February 4, 1991, or Revision 2, dated March 17, 1994;

Note 3: Airbus Service Bulletin A300-53-196 provides for a compliance threshold of within 6,000 landings after accomplishment of Airbus Service Bulletin A300-53-194, accomplishment of which is required by AD 87-04-12, amendment 39-5536.

(6) Airbus Service Bulletin A300-53-225, Revision 2, dated May 30, 1990;

(7) Airbus Service Bulletin A300-53-226, Revision 4, dated November 12, 1990; or Revision 5, dated September 7, 1991;

Note 4: Airbus Service Bulletin A300-53-226 provides for a compliance threshold of within 5 years after the issuance of French airworthiness directive 90-222-116(B), issued on December 12, 1990; but not later than 20 years after first delivery; the accomplishment of which is required by AD 90-03-08, amendment 39-6481.

(8) For Configuration 1 and 2 airplanes identified in Airbus Service Bulletin A300-53-0278, Revision 2, dated November 10, 1995: Airbus Service Bulletin A300-53-278, dated November 12, 1990; or Revision 1, dated March 17, 1994;

(9) Airbus Service Bulletin A300-54-045, Revision 4, dated January 31, 1990; or Revision 6, dated February 25, 1994;

(10) Airbus Service Bulletin A300-54-060, Revision 2, dated September 7, 1988, and Change Notice 2.A., dated February 13, 1990; or Revision 3, dated February 25, 1994;

(11) Airbus Service Bulletin A300-54-063, Revision 1, dated April 22, 1987, and Change Notice 1.A., dated February 13, 1990; or Revision 2, dated February 25, 1994;

(12) Airbus Service Bulletin A300-54-066, Revision 1, dated February 15, 1989, and Change Notice 1.A., dated February 13, 1990; or Revision 2, dated February 25, 1994.

Restatement of Certain Requirements of AD 96-08-08

(b) Accomplish the inspections and modifications contained in the Airbus service bulletins listed below prior to or at the thresholds identified in each of those service bulletins, or within 1,000 landings or 12 months after March 29, 1996 (the effective date of AD 96-08-08, amendment 39-9574), whichever occurs later. Required inspections shall be repeated thereafter at intervals not to exceed those specified in the corresponding service bulletin for the inspection.

(1) Airbus Service Bulletin A300-57-0194, Revision 2, including Appendix 1, dated August 19, 1993;

(2) Airbus Service Bulletin A300-57-166, Revision 3, including Appendix 1, dated July 12, 1993;

(3) Airbus Service Bulletin A300-57-0167, Revision 1, including Appendix 1, dated May 25, 1993;

(4) Airbus Service Bulletin A300-57-0168, Revision 3, including Appendix 1, dated November 22, 1993;

(5) Airbus Service Bulletin A300-57-0180, Revision 1, dated March 29, 1993;

(6) Airbus Service Bulletin A300-57-0185, Revision 1, including Appendix 1, dated March 8, 1993; and

(7) Airbus Service Bulletin A300-54-0084, dated April 21, 1994.

New Requirements of This AD

Inspections

(c) For Configuration 2 airplanes identified in Airbus Service Bulletin A300-53-0162, Revision 6, dated March 20, 1996: Accomplish the inspections contained in Airbus Service Bulletin A300-53-0162, Revision 6, dated March 20, 1996, prior to or at the thresholds identified in the service bulletin; or within 1,000 landings or 12 months after the effective date of this AD, whichever occurs later. Required inspections shall be repeated thereafter at intervals not to exceed those specified in the service bulletin for the inspection.

(d) For Configuration 1 and 2 airplanes identified in Airbus Service Bulletin A300-53-0278, Revision 2, dated November 10, 1995: Accomplish the inspections contained in Airbus Service Bulletin A300-53-0278, Revision 2, dated November 10, 1995; at the time specified in paragraph (d)(1) or (d)(2) of this AD, as applicable. Repeat the inspections thereafter at intervals not to exceed 3,600 flight cycles. Accomplishment of the inspections required by this paragraph constitutes terminating action for the inspections required by paragraph (a)(8) of this AD.

(1) For airplanes that have not been inspected in accordance with paragraph (a) and (a)(8) of this AD prior to the effective date of this AD: Inspect at the time specified in paragraph (d)(1)(i) or (d)(1)(ii) of this AD, as applicable.

(i) For Configuration 1 airplanes: Prior to the accumulation of 18,300 total landings, or within 1,000 landings or 12 months after the effective date of this AD, whichever occurs later.

(ii) For Configuration 2 airplanes: At the earlier of the times specified in paragraphs (d)(1)(ii)(A) or (d)(1)(ii)(B) of this AD.

(A) At the time specified in paragraphs (a) and (a)(8) of this AD.

(B) Prior to the accumulation of 22,000 total landings, or within 1,000 landings or 12 months after the effective date of this AD, whichever occurs later.

(2) For airplanes that have been inspected in accordance with paragraph (a) and (a)(8) of this AD prior to the effective date of this AD: Perform the next inspection within 3,600 landings after accomplishing the last inspection, or within 1,000 landings or 12 months after the effective date of this AD, whichever occurs later.

(e) For Configuration 3 airplanes identified in Airbus Service Bulletin A300-53-0278, Revision 2, dated November 10, 1995: Accomplish the inspections contained in Airbus Service Bulletin A300-53-0278, Revision 2, dated November 10, 1995, prior to the accumulation of 26,000 total flight cycles; or within 1,000 landings or 12 months after the effective date of this AD, whichever occurs later. Repeat the inspections thereafter at intervals not to exceed 5,000 flight cycles.

Note 5: Accomplishment of the inspections specified in Airbus Service Bulletin A300-53-0278, Revision 2, dated November 10, 1995, is considered acceptable for compliance with the significant structural details (SSD) inspection 536206 of “Airbus Industrie A300 Supplemental Structural Inspection Document” (SSID), Revision 2, dated June 1994, required by AD 96-13-11, amendment 39-9679 (61 FR 35122, July 5, 1996).

Corrective Actions for All Inspections

(f) If any discrepant condition identified in any service bulletin referenced in this AD is found during any inspection required by this AD, prior to further flight, accomplish the corresponding corrective action specified in the service bulletin, except as specified in paragraph (g) of this AD.

(g) If any crack is found during any inspection required by this AD; and the applicable service bulletin specifies to contact Airbus for appropriate action: Prior to further flight, repair in accordance with a method approved by the Manager, International Branch, ANM-116, FAA, Transport Airplane Directorate; or the Direction Generale de l'Aviation Civile (DGAC) (or its delegated agent). For a repair method to be approved by the Manager, International Branch, ANM-116, as required by this paragraph, the Manager's approval letter must specifically reference this AD.

Alternative Methods of Compliance

(h) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 6: Information concerning the existence of approved alternative methods of compliance with this AD, if any, may be obtained from the International Branch, ANM-116.

Special Flight Permits

(i) Special flight permits may be issued in accordance with §§ 21.197 and 21.199 of the Federal Aviation Regulations (14 CFR 21.197 and 21.199) to operate the airplane to a location where the requirements of this AD can be accomplished.

Incorporation by Reference

(j) Except as required by paragraph (g) of this AD, the actions shall be done in accordance with the Airbus service bulletins listed in paragraphs (j)(1), (j)(2), and (j)(3) of this AD.

(1) The incorporation by reference of Airbus Service Bulletin A300-53-0162, Revision 6, dated March 20, 1996, and Airbus Service Bulletin A300-53-0278, Revision 2, dated November 10, 1995, is approved by the Director of the Federal Register in accordance with 5 U.S.C. 552(a) and 1 CFR part 51.

(2) The incorporation by reference of the Airbus service bulletins listed in Table 1 was approved previously by the Director of the Federal Register as of April 13, 1992 (57 FR 8257, March 9, 1992).

Table 1
Airbus service bulletin No. | Revision level | Service bulletin date
A300-53-103 | 4 | June 30, 1983.
A300-53-126 | 7 | November 11, 1990.
A300-53-146 | 7 | April 26, 1991.
A300-53-162 | 4 | November 12, 1990.
A300-53-196 | 1 | November 12, 1990.
A300-53-225 | 2 | May 30, 1990.
Service Bulletin Change Notice 1.A. to A300-53-196 | (Original) | February 4, 1991.
A300-53-226 | 4 | November 12, 1990.
A300-53-226 | 5 | September 7, 1991.
A300-53-278 | (Original) | November 12, 1990.
A300-54-045 | 4 | January 31, 1990.
A300-54-060 | 2 | September 7, 1988.
Change Notice 2.A. to A300-54-060 | (Original) | February 13, 1990.
A300-54-063 | 1 | April 22, 1987.
Change Notice 1.A. to A300-54-063 | (Original) | February 13, 1990.
A300-54-066 | 1 | February 15, 1989.
Change Notice 1.A. to A300-54-066 | (Original) | February 13, 1990.

(3) The incorporation by reference of the Airbus service bulletins listed in Table 2 was approved previously by the Director of the Federal Register as of May 29, 1996 (61 FR 18661, April 29, 1996).

Table 2
Airbus service bulletin No. | Revision level | Service bulletin date
A300-53-103 | 5 | February 23, 1994.
A300-53-126 | 8 | September 18, 1991.
A300-53-162 | 5 | March 17, 1994.
A300-53-278 | 1 | March 17, 1994.
A300-54-045 | 6 | February 25, 1994.
A300-54-060 | 3 | February 25, 1994.
A300-54-063 | 2 | February 25, 1994.
A300-54-066 | 2 | February 25, 1994.
A300-57-0194 | 2 | August 19, 1993.
A300-57-166 | 3 | July 12, 1993.
A300-57-0167 | 1 | May 25, 1993.
A300-57-0168 | 3 | November 22, 1993.
A300-57-0180 | 1 | March 29, 1993.
A300-57-0185 | 1 | March 8, 1993.
A300-54-0084 | (Original) | April 21, 1994.

(4) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 7: The subject of this AD is addressed in French airworthiness directives 93-154-149(B), dated September 15, 1993, and 90-222-116(B)R4, dated March 27, 1996.

(k) This amendment becomes effective on June 28, 2000.

Issued in Renton, Washington, on May 8, 2000.
Vi L. Lipski,
Acting Manager, Transport Airplane Directorate, Aircraft Certification Service.

[FR Doc. 00-11948 Filed 5-23-00; 8:45 am]

BILLING CODE 4910-13-U